DEPARTMENT OF THE TREASURY

Fiscal Service

31 CFR 210

Federal Government Participation in the Automated Clearing House—Extension of Public Comment Period

AGENCY: Financial Management Service, Fiscal Service, Department of the Treasury.

ACTION: Notice of extension of public comment period.

SUMMARY: On April 12, 2001, the Financial Management Service (FMS) published a Notice of Proposed Rulemaking (NPRM) proposing to revise the regulation, 31 CFR part 210, governing the use of the Automated Clearing House (ACH) system by Federal agencies (66 FR 18888). The proposed revisions address the conversion of checks to ACH debit entries at Federal agency points-of-purchase and at lockbox locations where payments to Federal agencies are sent. The proposed revisions also address the origination by agencies of ACH debit entries authorized over the Internet. FMS requested that public comments on the proposed revisions be submitted by July 11, 2001. In response to requests by several parties for an extension of the comment deadline, FMS is extending the comment period to July 31, 2001.

DATES: Comments will be accepted through July 31, 2001.

ADDRESSES: Comments may be sent electronically to 210comments@fms.treas.gov. Comments may also be mailed to Donna Kotelnicki, Acting Director, Cash Management Policy and Planning Division, Financial Management Service, U.S. Department of the Treasury, Room 420, 410 14th Street, SW., Washington, DC 20227. The NPRM can be downloaded at the following World Wide Web address: http://www.fms.treas.gov/ach.

FOR FURTHER INFORMATION CONTACT: Walt Henderson, Senior Financial Program Specialist, at (202) 874-6705 or walt.henderson@fms.treas.gov; Matthew Helfrich, Financial Program Specialist, at (202) 874-6754 or matthew.helfrich@fms.treas.gov; Natalie H. Diana, Senior Attorney, at (202) 874-6680 or natalie.diana@fms.treas.gov; or Donna Kotelnicki, Acting Director, Cash Management Policy and Planning Division, at (202) 874-6590 or donna.kotelnicki@fms.treas.gov.

Dated: May 25, 2001.
Kenneth R. Papaj,
Deputy Commissioner.

[FR Doc. 01-13789 Filed 5-31-01; 8:45 am]

BILLING CODE 4810-35-M